DEPARTMENT OF ENERGY

Federal Energy Regulatory Commission

[Docket No. CP00-40-009]

Florida Gas Transmission Company; Notice of Amendment

September 13, 2002.

Take notice that on September 6, 2002, Florida Gas Transmission Company (FGT), 1400 Smith Street, Houston, Texas 77002, filed in Docket No. CP00-40-009 an application pursuant to sections 7(b) and 7(c) of the Natural Gas Act (NGA) and Part 157 of the Commission's regulations to amend FGT's certificate issued on July 27, 2001 authorizing the construction and operation of FGT's Phase V Expansion, all as more thoroughly described in the application on file with the Commission and open to public inspection. This filing is available for review at the Commission in the Public Reference Room or may be viewed on the Commission's Web site at http://www.ferc.gov using the “FERRIS” link. Enter the docket number excluding the last three digits in the docket number field to access the document. For assistance, call (202) 502-8222 or for TTY, (202) 502-8659.

Specifically, FGT is seeking to amend its certificate to modify

Compressor Unit 2601 at FGT's Compressor Station No. 26. FGT requests permission and approval to abandon the existing Cooper-Rolls RCB-14 compressor portion of Unit 2601, while keeping the same motor/driver, and install a Rolls Royce RFA-24 compressor. FGT states that the RFA-24 compressor will provide more efficient compression than the existing RCB-14 compressor, which will allow Station 26 to continue to operate even when there is an outage at the station's other Compressor Unit 2602. Because, under the proposal, the compressor portions of Units 2601 and 2602 will both consist of the RFA-24 compressor, FGT will have to keep only one set of spare parts. Thus, FGT concludes, the proposed replacement of the compressor portion of Unit 2601 will increase reliability and flexibility.

FGT states that, since the motor/driver for Unit 2601 will be unchanged, the horsepower will be unchanged, and that, given the current pipeline capacities, the installation of the RFA-24 compressor will not result in an increase in throughput. FGT also states that the cost of the compressor change-out will not affect the overall $451.9 million cost of the Phase V Expansion because FGT has been able to achieve other cost savings.

FGT requests that this amendment be approved by February 14, 2003, so construction can commence around March 1, 2003. Any questions concerning this application may be directed to Mr. Stephen T. Veatch, Director of Certificates and Regulatory Reporting, Suite 3997, 1400 Smith Street, Houston, TX 77002 or call (713) 853-6549.

There are two ways to become involved in the Commission's review of this project. First, any person wishing to obtain legal status by becoming a party to the proceedings for this project should, on or before October 4, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

The Commission strongly encourages electronic filings of comments, protests, and interventions via the internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

Magalie R. Salas,
Secretary.

[FR Doc. 02-23861 Filed 9-19-02; 8:45 am]

BILLING CODE 6717-01-P